DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before May 23, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: March 18, 2011.
Darrin A. King,
Director, Information Collection Clearance Division, Regulatory Information Management Services, Office of Management.

Office of Special Education and Rehabilitative Services

Type of Review: Revision.

Title of Collection: Report of Randolph-Sheppard Vending Facility Program.

OMB Control Number: 1820-0009.

Agency Form Number(s): N/A.

Frequency of Responses: Annually.

Affected Public: Businesses or other for-profit; State, Local, or Tribal Government, State Educational Agencies or Local Educational Agencies.

Total Estimated Number of Annual Responses: 52.

Total Estimated Number of Annual Burden Hours: 702.

Abstract: The Vending Facility Program authorized by the Randolph-Sheppard Act provides persons who are blind with remunerative employment and self-support through the operation of vending facilities on federal and other property. Under the Randolph-Sheppard Program, state licensing agencies recruit, train, license and place individuals who are blind as operators of vending facilities (including cafeterias, snack bars, vending machines, etc.) located on federal and other properties. In statute at 20 U.S.C. 107a(6)(a), the Secretary of Education is directed through the Commissioner of the Rehabilitation Services Administration (RSA) to conduct periodic evaluations of the programs authorized under the Randolph-Sheppard Act. Additionally, section 107b(4) requires entities designated as the state licensing agency to “make such reports in such form and containing such information as the Secretary may from time to time require* * *.” The information to be collected is a necessary component of the evaluation process and forms the basis for annual reporting. These data are also used to understand the distribution type and profitability of vending facilities throughout the country. Such information is useful in providing technical assistance to state licensing agencies and property managers. The Code of Federal Regulations, at 34 CFR 395.8, specifies that vending machine income received by the state from federal property managers can be distributed to blind vendors in an amount not to exceed the national average income for blind vendors. This amount is determined through data collected using RSA-15: Report of Randolph-Sheppard Vending Facility Program. In addition, the collection of information ensures the provision and transparency of activities referenced in 34 CFR 395.11 and 395.12 related to training and disclosure of program and financial information.

The following changes are found in the revised information collection (IC) RSA-15: Report of Randolph-Sheppard Vending Facility Program. In Section II, E. “Facilities on Public Property, Line 4 was expanded to include a breakdown of the types of public facilities. Since this information is currently used to calculate the total number of facilities on public property, there is no additional reporting burden. In Section IV, an additional column was added to capture other sources of funding for expenditures other than those traditionally associated with the program. At the end of the reporting form, a text box was added for notes or explanations at the request of the respondents, and contact information was also requested to expedite follow-up by RSA for approval of the reports. The instructions were modified accordingly to accommodate these changes in the form and to clarify information.

Copies of the proposed information collection request may be accessed from http://edicsweb.ed.gov, by selecting the “Browse Pending Collections” link and by clicking on link number 4549. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-6842 Filed 3-22-11; 8:45 am]

BILLING CODE 4000-01-P